SMALL BUSINESS ADMINISTRATION

[Disaster Declaration #21001 and #21002; OKLAHOMA Disaster Number OK-20025]

Administrative Declaration of a Disaster for the State of Oklahoma

AGENCY: U.S. Small Business Administration.

ACTION: Notice.

SUMMARY: This is a notice of an Administrative declaration of a disaster for the State of Oklahoma dated March 26, 2025.

Incident: Severe Storms, Tornadoes and Straight-line Winds.

DATES: Issued on March 26, 2025.

Incident Period: March 3, 2025, through March 4, 2025.

Physical Loan Application Deadline Date: May 27, 2025.

Economic Injury (EIDL) Loan Application Deadline Date: December 26, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's disaster declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Pontotoc.

Contiguous Counties:

Oklahoma: Coal, Garvin, Hughes, Johnston, McClain, Murray, Pottawatomie, Seminole.

The Interest Rates are:

| Percent
For Physical Damage:
Homeowners with Credit Available Elsewhere | 5.500
Homeowners without Credit Available Elsewhere | 2.750
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 21001C and for economic injury is 210020.

The State which received an EIDL Declaration is Oklahoma.

(Catalog of Federal Domestic Assistance Number 59008)

James Stallings,
Associate Administrator, Office of Disaster Recovery and Resilience.

[FR Doc. 2025-05556 Filed 3-31-25; 8:45 am]

BILLING CODE 8026-09-P